DEPARTMENT OF THE INTERIOR

Fish and Wildlife Service

[FWS-R2-ES-2018-N094; FXES11130200000-189-FF02ENEH00]

U.S. Endangered Species; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act of 1973, as amended (ESA), prohibits certain activities that may impact endangered species unless a Federal permit allows such activity. The ESA also requires that we invite public comment before issuing these permits.

DATES: To ensure consideration, please send your written comments by November 9, 2018.

ADDRESSES: Document availability: Request documents by phone or email: Susan Jacobsen, 505-248-6641, susan_jacobsen@fws.gov.

Comment submission: Submit comments by U.S. mail to Susan Jacobsen, Classification and Recovery Division, U.S. Fish and Wildlife Service, P.O. Box 1306, Albuquerque, NM 87103. Please specify the permit you are interested in by number (e.g., Permit No. TE-123456).

FOR FURTHER INFORMATION CONTACT: Susan Jacobsen, Chief, Classification and Restoration Division, 505-248-6641.

SUPPLEMENTARY INFORMATION:

Background

With some exceptions, the ESA prohibits activities that constitute take of listed species unless a Federal permit is issued that allows such activity. The ESA's definition of “take” includes hunting, shooting, harming, wounding, or killing but also such activities as pursuing, harassing, trapping, capturing, or collecting.

The ESA and our implementing regulations in the Code of Federal Regulations (CFR) title 50, part 17, provide for issuing such permits and require that we invite public comment before issuing permits for activities involving endangered species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Releasing documents is subject to the Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the application number when submitting comments.

Application No. | Applicant | Species | Location | Activity | Type of take | Permit action
TE-93531C | Stewart, Justin; Austin, Texas | Golden-cheeked Warbler (Setophaga chrysoparia) | Texas | Presence/absence surveys | Harm, harass | New.
TE-85341C | Ward, William A.; Oklahoma City, Oklahoma | American Burying Beetle (Nicrophorus americanus) | Oklahoma | Presence/absence surveys, habitat surveys | Capture, injury, death | New.
TE-85337C | Barnes, Bradley W.; Moore, Oklahoma | American Burying Beetle (Nicrophorus americanus) | Oklahoma | Presence/absence surveys, habitat surveys | Capture, injury, death | New.
TE-85444C | Chickasaw Nation; Ada, Oklahoma | American Burying Beetle (Nicrophorus americanus) | Oklahoma, Texas | Presence/absence surveys | Capture, injury, death | New.
TE-038055 | University of New Mexico, Dr. Turner; Albuquerque, New Mexico | Rio Grande Silvery Minnow (Hybognathus amarus), Spikedace (Meda fulgida), Loach Minnow (Tiaroga cobitis) | New Mexico, Arizona | Aquatic sampling/surveying (electrofishing, seines, dip-nets, block nets, and kick seines, others methods as approved), collect fin-clips | Capture, injury, death, collect | Renew.
TE-023159B | Southwestern Ornithological Research and Adventures (SORA), Albuquerque, New Mexico | Western Yellow-billed Cuckoo (Coccyzus americanus), Lesser Prairie-Chicken (Tympanuchus pallidicinctus), Mexican Spotted Owl (Strix occidentalis lucida), Northern Aplomado Falcon (Falco femoralis septentrionalis), Southwestern Willow Flycatcher (Empidonax traillii extimus) | New Mexico, Texas | Ground surveys, presence/absence surveys, breeding surveys | Harm, harass, injury, death | Renew.
TE-082492 | Hancock, Charles Dean; Youngsville, New Mexico | Southwestern Willow Flycatcher (Empidonax traillii extimus), Mexican Spotted Owl (Strix occidentalis lucida), Western Yellow-billed Cuckoo (Coccyzus americanus), Jemez Mountain Salamander (Plethodon neomexicanus) | New Mexico | Presence/absence surveys, mist-netting, nest boxes, hand capture | Capture, collect, harm, harass, injury, death | Renew.
TE-85591C | Jarrell, Jared M.; Tulsa, Oklahoma | American Burying Beetle (Nicrophorus americanus) | Oklahoma | Presence/absence surveys | Capture, injury, death | New.
TE-001623 | American Southwest Ichthyological Researchers (ASIR), Dr. Dudley; Albuquerque, New Mexico | Arkansas River Shiner (Notropis girardi), Colorado Pikeminnow (Ptychocheilus lucius), Razorback Sucker (Xyrauchen texanus), Humpback Chub (Gila cypha), Gila Chub (Gila intermedia), Rio Grande Silvery Minnow (Hybognathus amarus), Spikedace (Meda fulgida), Loach Minnow (Tiaroga cobitis) | Arizona, Colorado, New Mexico, Utah | Population monitoring, spawning activities, downstream transport studies, surveys, collection, fin clips, salvage, seines, dip nets, electrofishing | Capture, collect, injury, death | Renewal.
TE-837751 | U.S Bureau of Reclamation; Glendale, Arizona | Southwestern Willow Flycatcher (Empidonax traillii extimus), Western Yellow-billed Cuckoo (Coccyzus americanus), Northern Mexican gartersnake (Thamnophis eques megalops), Narrow-headed gartersnake (Thamnophis rufipunctatus), Chiricahua Leopard Frog (Lithobates chiricahuensis), Pima Pineapple Cactus (Coryphantha scheeri var. robustispina), Yuma Clapper Rail (Rallus obsoletus yumanensis), Desert Pupfish (Cyprinodon macularius), Gila Topminnow (Poeciliopsis occidentalis), Colorado Pikeminnow (Ptychocheilus lucius), Spikedace (Meda fulgida), Loach Minnow (Tiaroga cobitis), Razorback Sucker (Xyrauchen texanus), Woundfin (Plagopterus argentissimus) | Arizona | Surveys, Trapping, Capture, Electrofishing | Collect, harass, injury, death | Amend.
TE-88641C | Perkins, Steve; Farmington, New Mexico | Knowlton's Cactus (Pediocacurs knowltonii), Kuenzler Hedgehog Cactus (Echinocereus fendleri var. kuenzleri), Lee Pincushion Cactus (Escobaria sneedii var. leei), Mesa Verde Cactus (Sclerocactus mesae-verdae), Sneed Pincushion Cactus (Escobaria sneedii var. sneedii), Zuni Fleabane (Erigeron rhizomatus), Holy Ghost Ipomopsis (Ipomopsis sancti-spiritus), Mancos Milkvetch (Astragalus humillimus), Todsen's Pennyroyal (Hedeoma todsenii), Sacramento Prickly Poppy (Argemone pleiacantha ssp. pinnatisecta), Pecos Sunflower (Helianthus paradoxus), Sacramento Mountains Thistle (Cirsium vinaceum), Gypsum Wild-Buckwheat (Eriogonum gossypinum) | New Mexico | Presense/absence surveys | N/A | New.
TE-819458 | National Park Service, Organ Pipe Cactus National Monument); Ajo, Arizona | Sonoyta Mud Turtle (Kinosternon sonoriense longifemorale) | Arizona | Population surveys, trapping | Trap, injury, death | Amend.
TE-00974A | McLean, Jesse M.; Dallas Texas | Golden-cheeked Warbler (Setophaga chrysoparia) | Texas | Presence/absence surveys | Harass, injury, death | Renew.
TE-85338C | McCoy, Chad B.; Oklahoma City, Oklahoma | American Burying Beetle (Nicrophorus americanus) | Oklahoma | Presence/absence surveys, habitat surveys | Capture, injury, death | New.
TE-041875 | University of Arizona, Dr. Koprowski; Tucson, Arizona | Sonoran Tiger Salamander (Ambystoma tigrinum stebbinsi), Mount Graham Red Squirrel (Tamiasciurus hudsonicus grahamensis) | Arizona | Trap, tissue sample, radio-collar, mark, release, monitor, recapture | Capture, collect, injury, death | Renew.
TE-64710A | Jackson, Jacob T.; Austin, Texas | Houston Toad (Bufo Houstontoadensis) | Texas | Surveys, capture, relocation/salvage | Capture, collect, injury, death | Renew.
TE-90005C | Patterson, Rande; Houston, Texas | American Burying Beetle (Nicrophorus americanus) | Oklahoma, Texas | Presence/absence surveys | Capture, injury, death | New.
TE-93537C | Turtle Island Restoration Network; Galveston, Texas | Kemp's Ridley Sea Turtle (Lepidochelys kempii), Green Sea Turtle (Chelonia mydas), Loggerhead Sea Turtle (Caretta caretta), Hawksbill Sea Turtle (Eretmochelys imbricata), Leatherback Sea Turtle (Dermochelys coriacea) | Texas | Nesting surveys, capture, relocation and release, sample collection | Capture, collect, injury, death | New.
TE-053109 | Stefferud, Sally E.; Phoenix, Arizona | Desert Pupfish (Cyprinodon macularius), Gila Topminnow (Poeciliopsis occidentalis) | Arizona | Surveys, Trapping, Capture, Electrofishing | Collect, harass, injury, death | Renew.
TE-79697C | Clark, Barrett R.; Kyle, Texas | Coffin Cave mold beetle (Batrisodes texanus), Helotes mold beetle (B. venyivi), Robber Baron Cave meshweaver (Cicurina baronia), Madla Cave meshweaver (C. madla), Bracken Bat Cave meshweaver (C. venii), Government Canyon Bat Cave spider (Neoleptoneta microps), Tooth Cave spider (N. myopica), ground beetle (Rhadine exilis), ground beetle (R. infernalis), Kretschmarr Cave mold beetle (Tartarocregris texana), Cokendolpher Cave harvestman (Texella cokendolpheri), Bee Creek Cave harvestman (T. reddelli), Bone Cave harvestman (T. reyesi), diminutive amphipod (Gammarus hyalleloides), Pecos amphipod (G. pecos), Comal Springs riffle beetle (Heterlmis comalensis), Peck's Cave amphipod (Stygobromus pecki), Comal Springs dryopid beetle (S. comalensis) | Texas | Presence/absence surveys | Harm and harass | New.
TE-833851 | City of Austin; Austin, Texas | Barton Springs salamander (Eurycea sosorum), Austin blind salamander (E. waterlooensis), Jollyville Plateau salamander (E. tonkawae), San Marcos salamander, (E. nana) | Texas | Surveys, Marking, Tail-clipping | Collect, harass, injury, death | Renew.
TE-069320 | Groundwater and Environmental Services, Inc.; Lewisville, Texas | Interior least tern (Sterna antillarum athalassos), piping plover (Charadrius melodus), red-cockaded woodpecker (Picoides borealis), American Burying Beetle (Nicrophorus americanus), fountain darter (Etheostoma fonticola) | Arkansas, Kansas, Louisiana, Oklahoma, South Dakota, Texas | Presence/absence surveys | Harm and Harass | Renew.
TE-00975A | Osage Nation; Pawhuska, Oklahoma | American Burying Beetle (Nicrophorus americanus) | Oklahoma | Presence/absence surveys | Capture, injury, death | Renew.
TE-800611 | SWCA; Austin, Texas | Whooping Crane (Grus americana), Karst Invertebrates, Red-Cockaded Woodpecker (Leuconotopicus borealis), American Burying Beetle (Nicrophorus americanus), Louisiana Pine Snake (Pituophis ruthveni), Texas Hornshell (Popenaias popeii), Golden-cheeked Warbler (Setophaga chrysoparia), Interior Least Tern (Sterna antillarum athalassos), Houston Toad (Bufo houstonensis) | Arkansas, Kansas, Massachusetts, Michigan, Missouri, Nebraska, Ohio, Oklahoma, Rhode Island, South Dakota, Texas | Presence/absence surveys, habitat assessments | Capture, collect, injury, death | Amend.
TE-08832A | Utah State University; Logan, Utah | Rio Grande Silvery Minnow (Hybognathus amarus) | New Mexico | Surveys, Trapping, Capture, Electrofishing | Collect, harass, injury, death | Renew.
TE-86070C | Cincinnati Zoo; Cincinnati, Ohio | Todsen's Pennyroyal (Hedeoma todsenii) | New Mexico | Presence/absence surveys | N/A | New.
TE-169770 | NMOSE/ISC; Los Lunas, New Mexico | Rio Grande Silvery Minnow (Hybognathus amarus) | New Mexico | Captive propagation, culture, holding and research | Injury, death | Renew.

Public Availability of Comments

All comments and materials we receive in response to these requests will be available for public inspection, by appointment, during normal business hours at the address listed in ADDRESSES.

Before including your address, phone number, email address, or other personal identifying information in your comment, you should be aware that your entire comment—including your personal identifying information—may be made publicly available at any time. While you can ask us in your comment to withhold your personal identifying information from public review, we cannot guarantee that we will be able to do so.

Authority

We provide this notice under section 10 of the ESA (16 U.S.C. 1531 et seq.).

Dated: July 19, 2018.
Amy Lueders,
Regional Director, Southwest Region, U.S. Fish and Wildlife Service.

[FR Doc. 2018-21968 Filed 10-9-18; 8:45 am]

BILLING CODE 4333-15-P